DEPARTMENT OF AGRICULTURE

Food Safety and Inspection Service

[Docket No. FSIS-2010-0032]

Codex Alimentarius Commission: Meeting of the Codex Committee on Food Hygiene

AGENCY: Office of the Under Secretary for Food Safety, USDA.

ACTION: Notice of public meeting and request for comments.

SUMMARY: The Office of the Under Secretary for Food Safety, U.S. Department of Agriculture (USDA), and the Food and Drug Administration (FDA), Health and Human Services, are sponsoring a public meeting on November 2, 2010. The objective of the public meeting is to provide information and receive public comments on agenda items and draft U.S. positions that will be discussed at the 42nd Session of the Codex Committee on Food Hygiene (CCFH) of the Codex Alimentarius Commission (Codex), which will be held in Kampala, Uganda, from November 29 through December 3, 2010. The Under Secretary for Food Safety and FDA recognize the importance of providing interested parties the opportunity to obtain background information on the 42nd session of the CCFH and to address items on the agenda.

DATES: The public meeting is scheduled for Tuesday, November 2, 2010, from 1 p.m. to 4 p.m.

ADDRESSES: The public meeting will be held at the USDA, Whitten Building, 1400 Independence Avenue, SW., Room 107-A, Washington, DC 20250. Documents related to the 42nd Session of the CCFH will be accessible via the World Wide Web at the following address: http://www.codexalimentarius.net/current.asp.

Call In Information:

Call in Number: 1-866-692-3158.

Passcode: 5986642.

The U.S. Delegate to the 42nd Session of the CCFH, Ms. Jenny Scott, invites interested U.S. parties to submit their comments electronically to the following e-mail address Jenny.Scott@fda.hhs.gov.

For Further Information About the 42nd Session of the CCFH Contact: Barbara McNiff, 1400 Independence Avenue, SW., Room 4870, Washington, DC 20250, (202) 690-4719, Barbara.McNiff@fsis.usda.gov.

For Further Information About the Public Meeting Contact: Jasmine Matthews, Program Analyst, U.S. Codex Office, 1400 Independence Avenue, SW., Room 4861, Washington, DC 20250, (202) 690-1124, Jasmine.Matthews@fsis.usda.gov.

SUPPLEMENTARY INFORMATION:

Background

The Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCFH was established to draft basic provisions on food hygiene applicable to all food; to consider, amend if necessary, and endorse provisions on hygiene prepared by Codex commodity committees and contained in Codex codes of practice unless, in specific cases, the Codex has decided otherwise; to draft provisions on hygiene applicable to specific food items or food groups, whether coming within the terms of reference of a Codex commodity committee or not; to consider specific hygiene problems assigned to it by the Codex; to suggest and prioritize areas where there is a need for microbiological risk assessment at the international level; to develop questions to be addressed by the risk assessors; and, to consider microbiological risk management matters in relation to food hygiene, including food irradiation, and in relation to the risk assessment of FAO and WHO.

The CCFH is hosted by the United States of America.

Issues To Be Discussed at the Public Meeting

The following items on the agenda for the 42nd Session of the CCFH will be discussed during the public meeting:

• Matters Referred by the Codex Alimentarius Commission and Other Codex Committees to the CCFH

• Matters Arising from the Work of FAO, WHO, and Other International Intergovernmental Organizations:

(a) Progress Report on the Joint FAO and WHO Expert Meetings on Microbiological Risk Assessment (JEMRA) and Related Matters

(b) Information from the World Organization for Animal Health (OIE)

• Proposed Draft Guidelines for the Control of Campylobacter and Salmonella spp. in Chicken Meat at Step 4.

• Proposed Draft Guidelines on the Application of General Principles of Food Hygiene to the Control of Viruses in Food at Step 4.

• Proposed Draft Revision of the Recommended International Code of Hygenic Practice for Collecting, Processing, and Marketing of Natural Mineral Waters at Step 4.

• Proposed Draft Revision of the Principles for the Establishment and Application of Microbiological Criteria for Foods at Step 4.

Each issue listed will be fully described in documents distributed, or to be distributed, by the Secretariat prior to the meeting. Members of the public may access copies of these documents (see ADDRESSES).

Public Meeting

At the November 2, 2010, public meeting, draft U.S. positions on the agenda items will be described and discussed, and attendees will have the opportunity to pose questions and offer comments. Written comments may be offered at the meeting or sent to the U.S. Delegate for the 42nd Session of the CCFH, Jenny Scott (see ADDRESSES). Written comments should state that they relate to activities of the 42nd Session of the CCFH.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations/2010_Notices_Index/.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/.

Options range from recalls, export information, regulations, directives, and notices. Customers can add or delete subscriptions themselves, and have the option to password protect their accounts.

Done at Washington, DC, on September 28, 2010.
Karen Stuck,
U.S. Manager for Codex Alimentarius.

[FR Doc. 2010-24767 Filed 10-1-10; 8:45 am]

BILLING CODE 3410-DM-P